DEPARTMENT OF ENERGY

Federal Energy Regulatory Commission

Combined Notice of Filings

Take notice that the Commission has received the following Natural Gas Pipeline Rate and Refund Report filings:

Filings Instituting Proceedings

Docket Numbers: RP25-237-000.

Applicants: Iroquois Gas Transmission System, L.P.

Description: eTariff Filing.

Filed Date: 11/27/24.

Accession Number: 20241127-5189.

Comment Date: 5 p.m. ET 12/9/24.

Docket Numbers: RP25-238-000.

Applicants: TransColorado Gas Transmission Company LLC.

Description: § 4(d) Rate Filing: TC Quarterly FL&U Update Nov. 2024 to be effective 1/1/2025.

Filed Date: 11/27/24.

Accession Number: 20241127-5150.

Comment Date: 5 p.m. ET 12/9/24.

Docket Numbers: RP25-239-000.

Applicants: Mojave Pipeline Company, L.L.C.

Description: § 4(d) Rate Filing: Annual Fuel and L&U Filing 2025 to be effective 1/1/2025.

Filed Date:: 11/27/24.

Accession Number: 20241127-5153.

Comment Date: 5 p.m. ET 12/9/24.

Docket Numbers: RP25-240-000.

Applicants: Gillis Hub Pipeline, LLC.

Description: § 4(d) Rate Filing: Gillis Hub Pipeline—Baseline Tariff Filing to be effective 1/1/2025.

Filed Date:: 11/27/24.

Accession Number: 20241127-5182.

Comment Date: 5 p.m. ET 12/9/24.

Docket Numbers: RP25-241-000.

Applicants: LA Storage, LLC.

Description: § 4(d) Rate Filing: Filing of Negotiated Rate, Conforming IW Agreement 12.27.24 to be effective 12/2/2024.

Filed Date:: 11/27/24.

Accession Number: 20241127-5201.

Comment Date: 5 p.m. ET 12/9/24.

Docket Numbers: RP25-242-000.

Applicants: Alliance Pipeline L.P.

Description: § 4(d) Rate Filing: Negotiated Rates—Releases—2024-12-01 to be effective 12/1/2024.

Filed Date:: 11/27/24.

Accession Number: 20241127-5210.

Comment Date: 5 p.m. ET 12/9/24.

Docket Numbers: RP25-243-000.

Applicants: Cameron Interstate Pipeline, LLC.

Description: § 4(d) Rate Filing: Ca.m.eron Interstate Pipeline Fuel Retainage Percentage to be effective 1/1/2025.

Filed Date:: 11/27/24.

Accession Number: 20241127-5211.

Comment Date: 5 p.m. ET 12/9/24.

Docket Numbers: RP25-246-000.

Applicants: Rockies Express Pipeline LLC.

Description: § 4(d) Rate Filing: REX 2024-11-27 Negotiated Rate Agreements and a.m.endment to be effective 12/1/2024.

Filed Date:: 11/27/24.

Accession Number: 20241127-5249.

Comment Date: 5 p.m. ET 12/9/24.

Docket Numbers: RP25-247-000.

Applicants: Ruby Pipeline, L.L.C.

Description: § 4(d) Rate Filing: RP 2024-11-27 Negotiated Rate Agreements to be effective 12/1/2024.

Filed Date:: 11/27/24.

Accession Number: 20241127-5259.

Comment Date: 5 p.m. ET 12/9/24.

Docket Numbers: RP25-248-000.

Applicants: Alliance Pipeline L.P.

Description: § 4(d) Rate Filing: Negotiated Rates—Release Recall—2024-12-01 to be effective 12/1/2024.

Filed Date:: 11/29/24.

Accession Number: 20241129-5010.

Comment Date: 5 p.m. ET 12/11/24.

Docket Numbers: RP25-249-000.

Applicants: Transcontinental Gas Pipe Line Company, LLC.

Description: § 4(d) Rate Filing: Non-Conforming—Rivervale South—NRG Superseding to be effective 1/1/2025.

Filed Date:: 11/29/24.

Accession Number: 20241129-5011.

Comment Date: 5 p.m. ET 12/11/24.

Docket Numbers: RP25-250-000.

Applicants: MidAmerican Energy Services, LLC, Constellation Energy Generation, LLC.

Description: Joint Petition for Limited Waiver of Capacity Release Regulations, et al. of Mida.m.erican Energy Services, LLC, et al.

Filed Date:: 11/29/24.

Accession Number: 20241129-5032.

Comment Date: 5 p.m. ET 12/11/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-781-006.

Applicants: Algonquin Gas Transmission, LLC.

Description: Compliance filing: Algonquin Gas Transmission, LLC Rate Case Compliance Filing RP24-781 to be effective 12/1/2024.

Filed Date: 11/27/24.

Accession Number: 20241127-5315.

Comment Date: 5 p.m. ET 12/9/24.

Docket Numbers: RP24-781-007.

Applicants: Algonquin Gas Transmission, LLC.

Description: Compliance filing: Algonquin Gas Transmission, LLC Interim Rate Filing RP24-781 to be effective 12/1/2024.

Filed Date: 11/27/24.

Accession Number: 20241127-5318.

Comment Date: 5 p.m. ET 12/9/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 29, 2024.
Debbie-Anne A. Reese,
Secretary.

[FR Doc. 2024-28533 Filed 12-5-24; 8:45 a.m.]

BILLING CODE 6717-01-P